Executive Order 14379 of January 29, 2026

Addressing Addiction Through the Great American Recovery Initiative

By the authority vested in me as President by the Constitution and the laws of the United States of America, it is hereby ordered:

Section 1. Purpose and Policy. The disease of addiction, also known as substance use disorder, is a crisis that touches families in every community and neighborhood in our Nation. 48.4 million Americans, or 16.8 percent of our Nation's population, suffer from addiction, and my Administration will continue to respond to a crisis of this scale with the attention it deserves. Over the past year, we have made incredible progress in stopping the inflow of illegal drugs that threaten American communities. We must now supplement that work by furthering a national effort to prioritize addiction treatment and recovery.

Addiction is a chronic, treatable disease with relapse rates similar to other chronic diseases. Unfortunately, very few Americans who need treatment ever receive it or believe they need it. Among the 40.7 million adults who had a substance use disorder in 2024 and did not receive substance use treatment, 95.6 percent (or 38.1 million people) did not perceive that they needed treatment. Despite significant investment of resources, addiction recovery efforts remain fragmented and do not keep pace with scientific advancements.

The costs of these failures are devastating, not only in lives lost, but also in the ripple effects across our economy, workforce, and national strength. Addiction contributes to declining workforce participation, increased healthcare costs, homelessness, family instability, and lost productivity that together cost the United States hundreds of billions of dollars each year.

The framework for addiction treatment should parallel that of other chronic diseases—utilizing evidence-based care, scientific advancement, continuous support, and community connection. My Administration will drive a new national response to the disease of addiction that will create stronger coordination across government, the healthcare sector, faith communities, and the private sector in order to save lives, restore families, strengthen our communities, and build the Great American Recovery.

Sec. 2. Launching the Great American Recovery Initiative. (a) There is hereby established the White House Great American Recovery Initiative (Initiative) co-chaired by the Secretary of Health and Human Services and the Senior Advisor for Addiction Recovery. There shall be an Executive Director who shall administer and execute the day to day operations of the Initiative, and who shall report to the Assistant to the President for Domestic Policy.

(b) In addition to the Co-Chairs and the Executive Director, the Initiative shall consist of the following officials, or their designees:

(i) the Attorney General;

(ii) the Secretary of the Interior;

(iii) the Secretary of Education;

(iv) the Secretary of Labor;

(v) the Secretary of Housing and Urban Development;

(vi) the Secretary of Veterans Affairs;

(vii) the Assistant to the President and Chief of Staff;

(viii) the Assistant to the President and Special Envoy for Peace Missions;

(ix) the Assistant to the President and Cabinet Secretary;

(x) the Director of National Drug Control Policy;

(xi) the Administrator of the Centers for Medicare and Medicaid Services;

(xii) the Commissioner of Food and Drugs;

(xiii) the Director of the National Institutes of Health;

(xiv) the Assistant Secretary for Mental Health and Substance Use, Department of Health and Human Services; and

(xv) the heads of such other executive departments, agencies, and offices that the Co-Chairs and the Executive Director may from time to time designate or invite to participate.

(c) The Co-Chairs may hold public hearings, meetings, roundtables, and similar events, as appropriate, and may receive expert input from leaders in public health, addiction and recovery treatment, and other relevant subject matter areas.

Sec. 3. Addressing the Disease of Addiction. The Co-Chairs and the Executive Director, along with the other members of the Initiative, shall:

(i) recommend all necessary steps to coordinate the Federal Government's response to the addiction crisis, including by better aligning relevant Federal programs, setting clear objectives, and providing data-driven updates to the public on progress towards meeting these objectives;

(ii) take appropriate actions to increase awareness of the disease of addiction, help Americans receive the treatment they need, and foster a culture that celebrates recovery;

(iii) advise heads of executive departments and agencies (agency heads) on how to implement programs that integrate prevention, early intervention, treatment, recovery support, and re-entry into all relevant public health, healthcare, criminal justice, workforce, education, housing and social services systems, and remove outdated silos between agencies, programs, or systems, in each case as deemed appropriate by the agency head and consistent with applicable law;

(iv) advise agency heads on directing appropriate grants to support addiction recovery, with a focus on prevention, treatment, and long-term resilience; and

(v) consult with States, tribal nations, local jurisdictions, community-based organizations, faith-based organizations, the private sector, and philanthropic entities on the best strategies to ensure more Americans receive the treatment they need and celebrate individuals going through the recovery process.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Health and Human Services.

THE WHITE HOUSE,

January 29, 2026.

[FR Doc. 2026-02249

Filed 2-2-26; 11:15 am]

Billing code 4150-28-P